DEPARTMENT OF ENERGY

Federal Energy Regulatory Commission

Combined Notice of Filings #1

Take notice that the Commission received the following electric rate filings:

Docket Numbers: ER19-2505-006.

Applicants: Southern California Edison Company.

Description: Compliance filing: Errata to Settlement Filing WDAT Energy Storage ER19-2505-004 to be effective 10/30/2019.

Filed Date: 8/4/21.

Accession Number: 20210804-5087.

Comments Due: 5 p.m. ET 8/25/21.

Docket Numbers: ER21-1955-002.

Applicants: Duke Energy Progress, LLC.

Description: Tariff Amendment: DEP-American Beech ASOA—Response to Deficiency Letter to be effective 10/4/2021.

Filed Date: 8/4/21.

Accession Number: 20210804-5055.

Comments Due: 5 p.m. ET 8/25/21.

Docket Numbers: ER21-2158-001.

Applicants: VETCO.

Description: Compliance filing: eTariff Filing to Comply with Order in Docket No. ER21-712-000 Errata Filing to be effective 1/1/2021.

Filed Date: 8/4/21.

Accession Number: 20210804-5049.

Comments Due: 5 p.m. ET 8/25/21.

Docket Numbers: ER21-2605-000.

Applicants: esVolta, LP.

Description: Petition for Limited Waiver of esVolta, LP.

Filed Date: 8/4/21.

Accession Number: 20210804-5029.

Comments Due: 5 p.m. ET 8/18/21.

Docket Numbers: ER21-2606-000.

Applicants: Southwest Power Pool, Inc.

Description: § 205(d) Rate Filing: 3839 WAPA/Western MN Municipal/MRES Interconnection Agr to be effective 8/3/2021.

Filed Date: 8/4/21.

Accession Number: 20210804-5036.

Comments Due: 5 p.m. ET 8/25/21.

Docket Numbers: ER21-2607-000.

Applicants: Southern California Edison Company.

Description: § 205(d) Rate Filing: LGIA Arica Solar, LLC Sol Catcher BESS SA No. 272 to be effective 8/5/2021.

Filed Date: 8/4/21.

Accession Number: 20210804-5061.

Comments Due: 5 p.m. ET 8/25/21.

Docket Numbers: ER21-2608-000.

Applicants: Duke Energy Progress, LLC.

Description: Tariff Cancellation: DEP—Notice of Cancellation of Service Agreements Nos. 175 and 176 to be effective 10/4/2021.

Filed Date: 8/4/21.

Accession Number: 20210804-5067.

Comments Due: 5 p.m. ET 8/25/21.

Docket Numbers: ER21-2609-000.

Applicants: Duke Energy Indiana, LLC.

Description: § 205(d) Rate Filing: DEI—Peabody Facilities Relocation and Reimbursement Agreement RS No. 274 to be effective 8/5/2021.

Filed Date: 8/4/21.

Accession Number: 20210804-5070.

Comments Due: 5 p.m. ET 8/25/21.

Docket Numbers: ER21-2610-000.

Applicants: Tri-State Generation and Transmission Association, Inc.

Description: Tariff Cancellation: Notice of Cancellation of Rate Schedule FERC No. 101 to be effective 8/5/2021.

Filed Date: 8/4/21.

Accession Number: 20210804-5086.

Comments Due: 5 p.m. ET 8/25/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 4, 2021.
Debbie-Anne A. Reese,
Deputy Secretary.

[FR Doc. 2021-17028 Filed 8-9-21; 8:45 am]

BILLING CODE 6717-01-P